DEPARTMENT OF DEFENSE

Department of the Navy

Notice of Availability for Donation of the Destroyer ex-FORREST SHERMAN (DD 931)

AGENCY: Department of the Navy, DOD.

ACTION: Notice.

SUMMARY: The Department of the Navy hereby gives notice of the availability for donation, under the authority of 10 U.S.C. section 7306, of the destroyer ex-FORREST SHERMAN (DD 931) located at the NAVSEA Inactive Ship Maintenance Office (NISMO), Philadelphia, PA. Eligible recipients include: (1) Any State, Commonwealth, or Possession of the United States or any municipal corporation or political subdivision thereof; (2) the District of Columbia; or (3) any organization incorporated as a non-profit entity under section 501 of the Internal Revenue Code. The transfer of a ship for donation under 10 U.S.C section 7306 shall be made at no cost to the United States Government. The transferee will be required to maintain the ship as a static museum/memorial in a condition that is satisfactory to the Secretary of the Navy. Prospective transferees must submit a comprehensive application that addresses the significant financial, technical, environmental and curatorial responsibilities associated with donated Navy ships.

Other ships that are currently available for donation include:

—Destroyer ex-CONOLLY (DD 979), Philadelphia, PA.

—Cruiser ex-STERETT (CG 31), Benecia, CA.

—Guided Missile Frigate ex-OLIVER HAZARD PERRY (FFG 7), Philadelphia, PA.

—Heavy Cruiser ex-DES MOINES (CA 134), Philadelphia, PA.

—Yard Tug ex-HOGA (YTM 146), Benecia, CA.

FOR FURTHER INFORMATION CONTACT: Commander, Naval Sea Systems Command, ATTN: Ms. Gloria Carvalho (PMS 333G), 1333 Isaac Hull Ave SE., Stop 2701, Washington Navy Yard, DC 20376-2701, telephone number (202) 781-0485.

Dated: August 21, 2001.
T.J. Welsh,
Lieutenant Commander, Judge Advocate General's Corps, Federal Register Liaison Officer.

[FR Doc. 01-22681 Filed 9-10-01; 8:45 am]

BILLING CODE 3810-FF-P